DEPARTMENT OF HEALTH AND HUMAN SERVICES

National Institutes of Health

Center for Scientific Review; Amended Notice of Meeting

Notice is hereby given of a change in the meeting of the Center for Scientific Review Special Emphasis Panel, PAR Panel Hypersensitivity, Allergies and Mucosal Immunology, February 08, 2024, 10:00 a.m. to February 08, 2024, 07:00 p.m., National Institutes of Health, Rockledge II, 6701 Rockledge Drive, Bethesda, MD 20892, which was published in the Federal Register on January 19, 2024, 89 FR 3675, Doc 2024-00948.

This meeting is being amended to change the SRO Contact Person from Velasco Cimica, Ph.D., to Marcus Ferrone, Ph.D., Center for Scientific Review, National Institutes of Health, 6701 Rockledge Drive, Bethesda, MD 20892, Marcus.Ferrone@nih.gov, 301-402-2371. This amendment supersedes the previous amendment because the name of the meeting was mistakenly omitted in the first amendment and to provide the new SRO's contact information. The meeting is closed to the public.

Dated: January 24, 2024.
Lauren A. Fleck,
Program Analyst, Office of Federal Advisory Committee Policy.

[FR Doc. 2024-01778 Filed 1-29-24; 8:45 am]

BILLING CODE 4140-01-P